DEPARTMENT OF TRANSPORTATION

Office of the Secretary

Aviation Proceedings, Agreements Filed the Week Ending December 7, 2007

The following Agreements were filed with the Department of Transportation under the Sections 412 and 414 of the Federal Aviation Act, as amended (49 U.S.C. 1383 and 1384) and procedures governing proceedings to enforce these provisions. Answers may be filed within 21 days after the filing of the application.

Docket Number: DOT-OST-2007-0094.

Date Filed: December 3, 2007.

Parties: Members of the International Air Transport Association.

Subject: TC23/123 Africa-South Asia Subcontinent, Package (TC23 AFR-TC3 0341), Intended effective date: 1 April 2008.

Docket Number: DOT-OST-2007-0097.

Date Filed: December 6, 2007.

Parties: Members of the International Air Transport Association.

Subject: TC1 Areawide Resolution 001a, Mail Vote 556 (Memo 0367), Intended effective date: 1 January 2008.

Docket Number: DOT-OST-2007-0099.

Date Filed: December 6, 2007.

Parties: Members of the International Air Transport Association.

Subject: TC23 Europe-Japan, Korea, Expedited Composite Resolutions, (Memo 0159) Intended effective date: 1 March 2008.

Renee V. Wright
Program Manager, Docket Operations, Federal Register Liaison.

[FR Doc. E8-6456 Filed 3-27-08; 8:45 am]

BILLING CODE 4910-9X-P